DEPARTMENT OF COMMERCE

U.S. Education Mission to Western Europe; Portugal, Spain, United Kingdom, France (Optional)

September 21-25, 2015.

AGENCY: International Trade Administration, Department of Commerce.

ACTION: Notice.

SUMMARY: The United States (U.S.) Department of Commerce, International Trade Administration, is organizing an education mission to Portugal, Spain, United Kingdom (UK) with an optional stop to France. The Department of Commerce is partnering with the Department of State's EducationUSA Advising Centers in Portugal, Spain, and France and the Fulbright Commission in the UK to connect schools directly with potential students at fairs and provide market insight. The mission coincides with two popular European student fairs; Fulbright UK's College Day and the Council of International Schools (CIS) Paris fair. The mission schedule allows schools to consider attending these fairs as they are an additional opportunity to directly interact with potential students. However, participation is not required and registration and fees for both fairs is handled directly by the organizer and is at their discretion. This trade mission emphasizes U.S. higher education, focusing on undergraduate programs and community colleges. Institutions seeking to participate should be accredited by a recognized accreditation body listed in Council for Higher Education Accreditation (CHEA) or Accrediting Council for Education and Training (ACCET), in the Association of Specialized and Professional Accreditors (ASPA), or any accrediting body recognized by the U.S. Department of Education.

Mission Scenario

Participation in the mission will include the following:

• Pre-travel briefings/webinars

• U.S. Embassy/consulate and industry briefings

• Reception with Ambassador or other high ranking official (if available)

• Student Fairs and local visits (see itinerary)

• Some transportation

• Optional stop in Paris with student workshop EducationUSA, presentations.

Proposed Mission Schedule—September 21-25, 2015

Lisbon, Portugal—September 21, 2015

Sunday, September 20, 2015

—Arrive in Lisbon, Portugal and check into hotel

Monday, September 21, 2015 Lisbon, Portugal

9:00 a.m. Briefing with U.S. and Foreign Commercial Service and Public Affairs (Transportation to U.S. Embassy provided)

10:30 a.m. One-on-One meetings (U.S. Embassy)

12:30 p.m. Working Lunch (U.S. Embassy)

2:00 p.m. Site Visit

6:00 p.m. Education Fair organized by EducationUSA (Transportion provided)

Madrid, Spain

Tuesday, September 22, 2015

8:00 a.m. Depart Lisbon, Portugal for Madrid, Spain (transportation from hotel to airport in Lisbon and from airport to hotel in Madrid provided)

11:30 a.m. Briefing (Hotel)

1:45 p.m. Working Lunch (Hotel)

3:00 p.m. One-to-One Meetings (Hotel)

5:30 p.m. EducationUSA fair (International Center School)

Barcelona, Spain

Wednesday, September 23, 2015

8:00 a.m. Travel to Barcelona (transport from hotel to train station provided in Madrid and from train station to hotel in Barcelona) (Recommended: High-speed train arrive 10:40), Hotel Check-in

11:45 a.m. One-to-One mtgs

4:00 p.m. EducationUSA Fair

8:00 p.m. Consulate General No Host event or networking

London, United Kingdom

Thursday, Sept 24

8:00 a.m. Depart Barcelona (Transportation from hotel to airport provided)

10:00 a.m. Arrive in London, UK (travel on own to hotel and to U.S. Embassy)

12:00 a.m. Working Lunch (U.S. Embassy)

1:00 p.m. Round Table Discussion with UK Industry Partners (U.S. Embassy)

2:30 p.m. Briefings with CS, Consular, Public Affairs (U.S. Embassy)

5:00 p.m. No host Dinner or free time

Friday, Sept 25

9:00 a.m. Arrive at U.S. Embassy, Travel to Site visit to local sixth form college (transportation provided)

12:30 p.m. Official End of Mission

** From here participants may continue on own itinerary back to U.S. or other destinations, attend one or both of the following fairs, and/or continue on to optional stop in France on their own.**

Optional Fairs With Separate Registration in UK and France

Friday, September 25-Saturday, September 26, 2015

Fulbright UK's Annual College Days (Earl's Court Conference Center London, UK)

Sunday, September 27, 2015

CIS Fair (Hotel Renaissance Paris, France)

Paris, France (Optional Stop)

Monday, September 28, 2015

9:00 a.m. Breakfast Briefing with U.S. and Foreign Commercial Service and Public Affairs (George Marshall Center)

11:00 a.m. One-on-One meetings (George Marshall Center)

12:30 p.m. Lunch

1:30 p.m. Resume Meetings

5:00 p.m. EducationUSA Student Workshop (George Marshall Center)

Tuesday, September 29, 2015

—Departure to USA

This mission will seek to connect U.S. higher education institutions to potential students and university/institution partners in Western Europe. The mission will include student fairs organized by EducationUSA, individualized meetings in the selected markets, U.S. Embassy briefings, site visits, and networking events. Lisbon, Madrid, Barcelona, London, and Paris are the cities targeted for recruiting students to the United States.

Mission Goals

The goals of the U.S. Education Mission to Europe are: (1) To help participants gain market exposure and to introduce participants to the vibrant European market in the cities of Lisbon, Madrid, Barcelona, London, and Paris; (2) to help participants assess current and future business prospects by establishing valuable contacts with prospective students and educational institutions/partners; and (3) to help participants develop market knowledge and relationships leading to student recruitment and potential partnerships.

Participation Requirements

All parties interested in participating in the mission to Europe must submit a complete application package for consideration to the U.S. Department of Commerce. All applicants will be evaluated on their ability to meet certain conditions and best satisfy the selection criteria as outlined below. The mission will open on a rolling basis to a minimum of 13 and a maximum of 15 appropriately accredited U.S. educational institutions. Both U.S. educational institutions already recruiting students and developing partnerships in the region and those who are new to recruiting and developing partnerships in the region may apply.

Selection Criteria for Participation

• Consistency of the applicant's goals and objectives with the stated scope of the mission.

• Applicant's potential for doing business in Western Europe, including the likelihood of service exports (education)/knowledge transfer resulting from the mission.

Referrals from political organizations and any documents containing references to partisan political activities (including political contributions) will be removed from an applicant's submission and will not be considered during the selection process.

Conditions for Participation

An applicant must submit a timely, completed, and signed mission application with supplemental application materials, including adequate information on course offerings, primary market objectives, and goals for participation. The institution must have appropriate accreditation as specified above. The institution must be represented at the student fair by an employee. No agents will be allowed to represent a school on the mission or participate at the student fair. Agents will also not be allowed into the fairs to solicit new partnerships. If the Department of Commerce receives an incomplete application, the Department may reject the application, request additional information, or take the lack of information into account when evaluating the applications.

Participants must travel to stops in Portugal, Spain, United Kingdom on the mission. France is the only optional stop.

Each applicant must certify that the services it seeks to export through the mission are either produced in the United States, or, if not, marketed under the name of a U.S. firm and have at least 51 percent U.S. content of the value of the service.

Fees and Expenses

After an institution has been selected to participate on the mission, a payment to the Department of Commerce in the form of a participation fee is required. The participation fee is $2,895 for one principal representative from each non-profit educational institution or educational institution with less than 500 employees and $2,927 for for-profit universities with over 500 employees.¹ An institution can choose to participate in the optional stop in France for an additional $1,009 for one principal representative from each non-profit educational institution or educational institution with less than 500 employees and $1,026 for for-profit universities with over 500 employees. The fee for each additional representative is $500. Expenses for lodging, some meals, incidentals, and all travel (except transportation previously noted) will be the responsibility of each mission participant. The U.S. Department of Commerce can facilitate government rates in some hotels.

¹ An SME is defined as a firm with 500 or fewer employees or that otherwise qualifies as a small business under SBA regulations (see http://www.sba.gov/services/contractingopportunities/sizestandardstopics/index.html). Parent companies, affiliates, and subsidiaries will be considered when determining business size. Non-profit educational institutions will be considered SMEs for purposes of this guidance. The dual pricing reflects the Commercial Service's user fee schedule that became effective May 1, 2008 (see http://www.export.gov/newsletter/march2008/initiatives.html for additional information).

Timeframe for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than July 1, 2015. Applications for the mission will be accepted on a rolling basis. Applications received after July 1, 2015, will be considered only if space and scheduling constraints permit.

Contact Information

U.S. Export Assistance Centers

Ms. Amy Freedman, Cleveland USEAC, 216-522-4737, International Trade Specialist, amy.freedman@trade.gov.

Ms. Jennifer Moll, Detroit USEAC, 313-212-8693, Senior International Trade Specialist, Jennifer.Moll@trade.gov.

Mrs. Gabriela Zelaya, San Jose USEAC, 408-535-2757, ext. 107, International Trade Specialist, Gabriela.Zelaya@trade.gov.

U.S. and Foreign Commercial Service in Europe

Ms. Janee Pierre-Louis, France, 33 (0)1 43 12 70 87, Commercial Officer, Janee.Pierre-Louis@trade.gov.

Ms. Isabelle Singletary, France, [33] (0)1 43 12 70 63, Commercial Information Mgmt Specialist, Isabelle.Singletary@trade.gov.

Mr. Pedro Ferreira, Portugal, [351] (21) 770-2572, Senior Commercial Specialist, Lisbon, Pedro.Ferreira@trade.gov.

Mr. Jesus Garcia, Spain, 34-91-3081578, Senior Commercial Specialist, Jesus.Garcia@trade.gov.

Mrs. Chrystal Denys, United Kingdom, 44 20 7894 0432, Commercial Specialist, Chrystal.Denys@trade.gov.

Frank Spector,
Trade Programs & Strategic Partnerships.

[FR Doc. 2015-05594 Filed 3-11-15; 8:45 am]

BILLING CODE 3510-DR-P